DEPARTMENT OF THE INTERIOR

Fish and Wildlife Service

[FWS-HQ-WSFR-2019-N018; FVWF94100900000-XXX-FF09W23000; FVWF51100900000-XXX-FF09W23000; OMB Control Number 1018-0007]

Agency Information Collection Activities; Submission to the Office of Management and Budget for Review and Approval; Annual Certification of Hunting and Sport Fishing Licenses Issued

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before June 3, 2019.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: BPHC, 5275 Leesburg Pike, Falls Church, VA 22041-3803 (mail); or by email to Info_Coll@fws.gov. Please reference OMB Control Number 1018-0007 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On August 22, 2018, we published a Federal Register notice soliciting comments on this collection of information for 60 days, ending on October 22, 2018 (83 FR 42524). We received the following comment in response to the Federal Register notice:

Comment 1: The respondent believed that the collection is necessary and the information is processed and used in a timely manner. The respondent's estimate of burden to complete the forms is 16 to 24 hours. The respondent suggested that the Service provide guidance and training to ensure accurate reporting of license sales data and that we accept submissions electronically by website or email.

Response to Comment 1: We are combining the information collection for certification and summary information into a single FWS Form 3-154. We understand that some States may have systems in place that allow them to respond more quickly than others. We do allow respondents to submit complete and signed forms by email. We also anticipate being able to allow States to submit annual license certifications online through the new Wildlife Tracking and Reporting Accomplishments for the Conservation of Species (TRACS) web interface beginning with the FY 2020 certifications. We do not change the burden from the prior collection, but anticipate that increased efficiency will be realized as data collection systems improve and electronic methods are used.

We are again soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The Pittman-Robertson Wildlife Restoration Act (16 U.S.C. 669 et seq.) and the Dingell-Johnson Sport Fish Restoration Act (16 U.S.C. 777 et seq., except 777e-1 and g-1) provide authority for Federal assistance to the States for management and restoration of fish and wildlife. These Acts and our regulations in the Code of Federal Regulations (CFR) at 50 CFR part 80, subpart D, require that States, territories, and the District of Columbia annually certify their hunting and fishing license sales. States, territories, and the District of Columbia that receive grants under these Acts use FWS Form 3-154, “State Fish and Wildlife Agency Hunting and Sport Fishing License Certification” to certify the number of hunting and fishing licenses sold. We use the information collected to apportion and distribute funds according to the formula specified in each Act. The Act is supported by regulations at 50 CFR 80.31 that require States to respond to the Service's request for hunting and fishing license information by certifying the information in the format that the Director specifies and providing documentation to support the accuracy of this information. The Service requests the total number of unique hunting and fishing license holders as well as the number of resident and non-resident hunting and fishing licenses sold and associated costs. The methodology under the rule published at 76 FR 46150 (August 1, 2011) requires that States calculate net revenue to determine if an individual can be counted as a license holder.

With this renewal request, we are eliminating using two separate forms for this collection and combining all information to be collected into a single FWS Form 3-154. We made minor updates to Form 3-154 to improve functionality and reported data clarity. These changes do not increase the reporting burden and are expected to improve efficiency. The changes made in combining the forms and improving reporting by giving electronic alternatives will potentially, over time, reduce the public reporting burden for this collection.

Title of Collection: Annual Certification of Hunting and Sport Fishing Licenses Issued, 50 CFR 80, Subpart D.

OMB Control Number: 1018-0007.

Form Number: Form 3-154.

Type of Review: Revision of a currently approved collection.

Respondents/Affected Public: States, territories (Commonwealth of Puerto Rico, Commonwealth of the Northern Mariana Islands, Guam, U.S. Virgin Islands, and American Samoa), and District of Columbia.

Total Estimated Number of Annual Respondents: 56.

Total Estimated Number of Annual Responses: 56.

Estimated Completion Time per Response: 32 hours.

Total Estimated Number of Annual Burden Hours: 1,792.

Respondent's Obligation: Required to Obtain or Retain a Benefit.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq.).

Dated: April 29, 2019.
Madonna Baucum,
Information Collection Clearance Officer, U.S. Fish and Wildlife Service.

[FR Doc. 2019-08934 Filed 5-1-19; 8:45 am]

BILLING CODE 4333-15-P